DEPARTMENT OF ENERGY

Federal Energy Regulatory Commission

[Docket No. EC11-83-001]

Exelon Corporation Constellation Energy Group, Inc.; Notice of Filing

Take notice that, on October 11, 2011, Exelon Corporation and Constellation Energy Group, Inc. (Merger Applicants) submitted a filing styled as an answer in the above-referenced proceeding attaching an agreement that Merger Applicants have reached with the Independent Market Monitor for PJM (Market Monitor) involving certain mitigation commitments Merger Applicants have agreed to implement upon the closing of the proposed transaction that is the subject of Merger Applicants' application that was filed in the above-referenced proceeding on May 20, 2011 under section 203 of the Federal Power Act. Merger Applicants request that the Commission issue an order approving the transaction, conditioned on the Merger Applicants' compliance with the terms of the agreement with the Market Monitor (along with the other commitments described in their application, which are not superseded by the agreement with the Market Monitor). Merger Applicants' filing is hereby noticed as an amendment to their application for purposes of section 33.11(a) of the Commission's regulations (18 CFR 33.11(a)).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: November 1, 2011.

Dated: October 19, 2011.
Kimberly D. Bose,
Secretary.

[FR Doc. 2011-27525 Filed 10-24-11; 8:45 am]

BILLING CODE 6717-01-P